DEPARTMENT OF TRANSPORTATION

Federal Aviation Administration

14 CFR Part 39

[Docket No. FAA-2007-29176; Directorate Identifier 2007-NE-38-AD]

RIN 2120-AA64

Airworthiness Directives; McCauley Propeller Systems Model 4HFR34C653/L106FA Propellers

AGENCY: Federal Aviation Administration (FAA), Department of Transportation (DOT).

ACTION: Notice of proposed rulemaking (NPRM).

SUMMARY: The FAA proposes to adopt a new airworthiness directive (AD) for McCauley Propeller Systems model 4HFR34C653/L106FA propellers. This proposed AD would require a onetime fluorescent penetrant inspection (FPI) and eddy current inspection (ECI) of the propeller hub for cracks. This proposed AD results from reports of 3 hubs found cracked during propeller overhaul. We are proposing this AD to prevent failure of the propeller hub, which could cause blade separation, damage to the airplane, and loss of control of the airplane.

DATES: We must receive any comments on this proposed AD by November 27, 2007.

ADDRESSES: Use one of the following addresses to comment on this proposed AD.

• Federal eRulemaking Portal: Go to http://www.regulations.gov. Follow the online instructions for sending your comments electronically.

• Mail: Docket Management Facility: U.S. Department of Transportation, 1200 New Jersey Avenue, SE., West Building Ground Floor, Room W12-140, Washington, DC 20590-0001.

• Hand Delivery: Deliver to Mail address above between 9 a.m. and 5 p.m., Monday through Friday, except Federal holidays.

• Fax: (202) 493-2251.

You can get the service information identified in this proposed AD from McCauley Propeller Systems, P.O. Box 7704, Wichita, KS 67277-7704; telephone (800) 621-7767.

FOR FURTHER INFORMATION CONTACT: Jeff Janusz, Aerospace Engineer, Wichita Aircraft Certification Office, FAA, Small Airplane Directorate, 1801 Airport Road, Wichita, KS 67209; e-mail: jeff.janusz@faa.gov; telephone: (316) 946-4148; fax: (316) 946-4107.

SUPPLEMENTARY INFORMATION:

Comments Invited

We invite you to send us any written relevant data, views, or arguments regarding this proposal. Send your comments to an address listed under ADDRESSES. Include “Docket No. FAA-2007-29176; Directorate Identifier 2007-NE-38-AD” in the subject line of your comments. We specifically invite comments on the overall regulatory, economic, environmental, and energy aspects of the proposed AD. We will consider all comments received by the closing date and may amend the proposed AD in light of those comments.

We will post all comments we receive, without change, to http://www.dms.dot.gov or http://www.regulations.gov, including any personal information you provide. We will also post a report summarizing each substantive verbal contact with FAA personnel concerning this proposed AD. Anyone is able to search the electronic form of all comments received into any of our dockets by the name of the individual submitting the comment (or signing the comment, if submitted on behalf of an association, business, labor union, etc.) You may review the DOT's complete Privacy Act Statement in the Federal Register published on April 11, 2000 (65 FR 19477-78).

Examining the AD Docket

For access to the docket to read background documents or comments received, go to http://dms.dot.gov until September 27, 2007, or the street address listed under ADDRESSES. The DOT docket may be offline at times between September 28 through September 30 to migrate to the Federal Docket Management System (FDMS). On October 1, 2007, the internet access to the docket will be at http://www.regulations.gov. Follow the online instructions for accessing the dockets. Comments will be available in the AD docket shortly after receipt.

Discussion

The FAA received reports of 3 hubs found cracked during propeller overhaul. All 3 hubs had very small cracks located in the hub socket region, in the area of the outer bearing race press-fit surfaces. To date, the cause of these cracks appears to be fretting damage between the outer bearing race and the hub surface. This condition, if not corrected, could result in failure of the propeller hub, which could cause blade separation, damage to the airplane, and loss of control of the airplane.

Relevant Service Information

We have reviewed and approved the technical contents of McCauley Propeller Systems Alert Service Bulletin (ASB) No. ASB254, dated August 20, 2007. That ASB describes procedures for a onetime FPI and ECI of propeller hubs for cracks.

FAA's Determination and Requirements of the Proposed AD

We have evaluated all pertinent information and identified an unsafe condition that is likely to exist or develop on other products of this same type design. We are proposing this AD, which would require a onetime FPI and ECI of propeller hubs for cracks. The proposed AD would require you to use the service information described previously to perform these actions.

Interim Action

These actions are interim actions and we may take further rulemaking actions in the future.

Costs of Compliance

We estimate that this proposed AD would affect 128 propellers installed on airplanes of U.S. registry. We also estimate that it would take about 41.5 work-hours per propeller to perform the proposed actions, and that the average labor rate is $80 per work-hour. Required parts would cost about $80 per propeller, if the hub passes inspection. Required parts would cost about $4,113 per propeller, if the hub fails inspection. We estimate that 5% of the hubs will require replacement. Based on these figures, we estimate the total cost of the proposed AD to U.S. operators to be $463,991.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed AD:

1. Is not a “significant regulatory action” under Executive Order 12866;

2. Is not a “significant rule” under the DOT Regulatory Policies and Procedures (44 FR 11034, February 26, 1979); and

3. Would not have a significant economic impact, positive or negative, on a substantial number of small entities under the criteria of the Regulatory Flexibility Act.

We prepared a regulatory evaluation of the estimated costs to comply with this proposed AD. You may get a copy of this summary at the address listed under ADDRESSES.

List of Subjects in 14 CFR Part 39

Air transportation, Aircraft, Aviation safety, Safety.

The Proposed Amendment

Under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

McCauley Propeller Systems: Docket No. FAA-2007-29176; Directorate Identifier 2007-NE-38-AD.

Comments Due Date

(a) The Federal Aviation Administration (FAA) must receive comments on this airworthiness directive (AD) action by November 27, 2007.

Affected ADs

(b) None.

Applicability

(c) This AD applies to McCauley Propeller Systems model 4HFR34C653/L106FA propellers. These propellers are installed on, but not limited to, British Aerospace Jetstream 3201 airplanes.

Unsafe Condition

(d) This AD results from reports of 3 hubs found cracked during propeller overhaul. We are issuing this AD to prevent failure of the propeller hub, which could cause blade separation, damage to the airplane, and loss of control of the airplane.

Compliance

(e) You are responsible for having the actions required by this AD performed within the compliance times specified unless the actions have already been done.

(f) For propeller hubs with 6,000 or more operating hours time-since-new (TSN) on the effective date of this AD, perform the procedures in paragraphs (h) through (k) of this AD within 100 operating hours time-in-service (TIS) after the effective date of this AD.

(g) For propeller hubs with fewer than 6,000 operating hours TSN on the effective date of this AD, perform the procedures in paragraphs (h) through (k) of this AD before the propeller hub reaches 6,100 operating hours TSN.

Onetime Propeller Hub Inspection

(h) Remove and disassemble the propeller, and etch the propeller hub, using paragraphs 1.A. through 2.D. of the Accomplishment Instructions of McCauley Propeller Systems Alert Service Bulletin No. ASB254, dated August 20, 2007.

(i) Perform a onetime fluorescent penetrant inspection (FPI) of the propeller hub, using paragraphs 3.A through 3.G. of the Accomplishment Instructions of McCauley Propeller Systems Alert Service Bulletin No. ASB254, dated August 20, 2007.

(j) For hubs that pass the FPI, perform a onetime eddy current inspection of the propeller hub, using paragraphs 4.A. through 4.F. of the Accomplishment Instructions of McCauley Propeller Systems Alert Service Bulletin No. ASB254, dated August 20, 2007.

(k) Remove cracked hubs from service and any other propeller parts found cracked, and return them within 10 days after inspection to McCauley Propeller Systems, P.O. Box 7704, Wichita, KS 67277-7704, for further evaluation.

Previous Credit

(l) If you performed the onetime inspection of the propeller hub using McCauley Propeller Systems Service Bulletin No. SB238A, or Alert Service Bulletin ASB254, both dated August 20, 2007, before the effective date of this AD, you have satisfied the inspection requirements of this AD.

Reporting Requirements

(m) Record the hub inspection results on reporting form, page 8, of McCauley Alert Service Bulletin No. ASB254, dated August 20, 2007. Within 10 days after the inspection, send the completed reporting form to McCauley Propeller Systems, P.O. Box 7704, Wichita, KS 67277-7704, telephone (316) 831-4021; fax (316) 831-3858.

(n) Under the provisions of the Paperwork Reduction Act (44 U.S.C. 3501 et seq.), the Office of Management and Budget (OMB) has approved the information collection requirements contained in this AD and has assigned OMB Control Number 2120-0056.

Interim Action

(o) These actions are interim actions and we may take further rulemaking actions in the future.

Alternative Methods of Compliance

(p) The Manager, Wichita Aircraft Certification Office, has the authority to approve alternative methods of compliance for this AD if requested using the procedures found in 14 CFR 39.19.

Special Flight Permits

(q) Under 14 CFR part 39.23, we are limiting the special flight permits for this AD by the following conditions:

(1) The propeller must have no signs of external oil leakage from the hub; and

(2) The propeller has no current reports of abnormal operation or vibration.

Related Information

(r) None.

(s) Contact Jeff Janusz, Aerospace Engineer, Wichita Aircraft Certification Office, FAA, Small Airplane Directorate, 1801 Airport Road, Wichita, KS 67209; e-mail: jeff.janusz@faa.gov; telephone: (316) 946-4148; fax: (316) 946-4107, for more information about this AD.

Issued in Burlington, Massachusetts, on September 24, 2007.
Thomas A. Boudreau,
Acting Manager, Engine and Propeller Directorate, Aircraft Certification Service.

[FR Doc. E7-19194 Filed 9-27-07; 8:45 am]

BILLING CODE 4910-13-P